DEPARTMENT OF LABOR

Office of the Secretary

Submission for OMB Review: Comment Request

February 23, 2007.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Employee Benefits Security Administration (EBSA), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: PTE 88-59—Residential Mortgage Financing Arrangements Involving Employee Benefit Plans.

OMB Number: 1210-0095.

Type of Response: Recordkeeping and Third party disclosure.

Affected Public: Private Sector: Business or other for-profits.

Estimated Number of Respondents: 1,785.

Estimated Number of Annual Responses: 8,925.

Estimated Total Burden Hours: 744.

Estimated Total Annualized capital/startup costs: $0.

Estimated Total Annual Costs (operating/maintaining systems or purchasing services): $0.

Description: Prohibited Transaction Exemption (PTE) 88-59 provides an exemption from certain prohibited transaction provisions of the Employment Retirement Income Security Act of 1974 and from certain taxes imposed by the Internal Revenue Code of 1986 for transactions in which an employee benefit plan provides mortgage financing to purchasers of residential dwelling units, provided specified conditions are met. Among other conditions, PTE 88-59 requires that adequate records pertaining to exempted transactions be maintained for the duration of the pertinent loan.

Darrin A. King,
Acting Departmental Clearance Officer.

[FR Doc. E7-3546 Filed 2-28-07; 8:45 am]

BILLING CODE 4510-29-P